DEPARTMENT OF COMMERCE

International Trade Administration

[A-570-848]

Freshwater Crawfish Tail Meat From the People's Republic of China: Rescission of Antidumping Duty New Shipper Review

AGENCY: Import Administration, International Trade Administration, Department of Commerce.

ACTION: Notice of rescission of the antidumping duty new shipper review of freshwater crawfish tail meat from the People's Republic of China.

SUMMARY: In response to a request from Qingdao Xiyuan Refrigerate Food Co., Ltd., the Department of Commerce initiated a new shipper review of the antidumping duty order on freshwater crawfish tail meat from the People's Republic of China. The period of review is September 1, 2002 through August 31, 2003. For the reasons discussed below, we are rescinding this new shipper review.

EFFECTIVE DATE: December 3, 2004.

FOR FURTHER INFORMATION CONTACT: Scot Fullerton or Carrie Blozy, AD/CVD Operations, Office 9, Import Administration, International Trade Administration, U.S. Department of Commerce, 14th Street and Constitution Avenue, N.W., Washington, D.C., 20230; telephone: (202) 482-1386 and (202) 482-5403, respectively.

SUPPLEMENTARY INFORMATION:

Scope of the Order

The product covered by this antidumping duty order is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTS) under item numbers 1605.40.10.10 and 1605.40.10.90, which are the new HTS numbers for prepared foodstuffs, indicating peeled crawfish tail meat and other, as introduced by the U.S. Customs Service in 2000, and HTS items 0306.19.00.10 and 0306.29.00, which are reserved for fish and crustaceans in general. The HTS subheadings are provided for convenience and customs purposes only. The written description of the scope of this order is dispositive.

Background

On October 31, 2003, the Department of Commerce (the Department) initiated a new shipper review of Qingdao Xiyuan Refrigerate Food Co., Ltd. (Qingdao Xiyuan) under the antidumping duty order on freshwater crawfish tail meat from the People's Republic of China (PRC) for the period September 1, 2002 through August 31, 2003. See Freshwater Crawfish Tail Meat From the People's Republic of China: Initiation of Antidumping New Shipper Reviews, 68 FR 62774 (November 6, 2003). On August 20, 2004, the Department issued preliminary results based on information provided from questionnaire responses submitted by Qingdao Xiyuan. See Notice of Preliminary Results of Antidumping Duty New Shipper Review and Rescission of New Shipper Reviews: Freshwater Crawfish Tail Meat From the People's Republic of China, 69 FR 53669 (September 2, 2004). Verification was scheduled to take place at Qingdao Xiyuan from August 30 through September 1, 2004. On August 28, 2004, counsel for Qingdao Xiyuan verbally informed the Department verifiers that Qingdao Xiyuan would not participate in verification. On September 7, 2004, Qingdao Xiyuan submitted a letter confirming that the company would not participate in verification. On November 12, 2004, the Department informed Qingdao Xiyuan that the Department intended to rescind the new shipper review of Qingdao Xiyuan based on its refusal to allow verification.

Rescission of New Shipper Review

We are rescinding the new shipper review with respect to Qingdao Xiyuan. As noted above, verification was scheduled to take place at Qingdao Xiyuan from August 30 through September 1, 2004. On both August 28, 2004, and September 7, 2004, Qingdao Xiyuan communicated to the Department that it would not allow verification of its questionnaire responses. In a November 12, 2004, letter to Qingdao Xiyuan, we expressed our intent to rescind the new shipper review based on Qingdao Xiyuan's statements that it would not participate in verification. By failing to permit verification, Qingdao Xiyuan did not establish its entitlement to a separate rate. We did not receive any properly filed submissions regarding our intent to rescind. For these reasons, we are rescinding the new shipper review of the antidumping duty order on freshwater crawfish tail meat from the People's Republic of China with respect to Qingdao Xiyuan pursuant to 19 CFR 351.214(a) and 351.214(b)(iii)(B) of the Department's regulations.

Cash Deposits

Bonding is no longer permitted to fulfill security requirements for shipments from Qingdao Xiyuan of freshwater crawfish tail meat from the PRC entered, or withdrawn from warehouse, for consumption in the United States on or after the publication of this notice of rescission of antidumping duty new shipper review in the Federal Register. Further, effective upon publication of this notice for all shipments of the subject merchandise exported by Qingdao Xiyuan and entered, or withdrawn from warehouse, for consumption, the cash-deposit rate will be the PRC-wide rate, which is 223.01 percent.

Assessment of Antidumping Duties

The Department shall instruct U.S. Customs and Border Protection (CBP) to assess antidumping duties on all appropriate entries. Since we are rescinding this antidumping duty new shipper review, the PRC-wide rate of 223.01 percent in effect at the time of entry applies to all exports of freshwater crawfish tail meat from the PRC produced and exported by Qingdao Xiyuan during the period of review. The Department will issue appropriate assessment instructions directly to CBP within 15 days of publication of this notice of rescission of antidumping duty new shipper review.

Notification to Interested Parties

This notice serves as a reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice is published in accordance with section 751(B) of the Tariff Act of 1930, as amended, and 19 CFR 351(f)(3).

Dated: November 24, 2004.
Joseph A. Spetrini,
Acting Assistant Secretary for Import Administration.

[FR Doc. E4-3456 Filed 12-2-04; 8:45 am]

[BILLING CODE: 3510-DS-S]